Title 3—

The President

Proclamation 8785 of March 19, 2012

National Day of Honor

By the President of the United States of America

A Proclamation

Nine years ago, members of the United States Armed Forces crossed the sands of the Iraq-Kuwait border and began one of the most challenging missions our military has ever known. They left the comforts of home and family, volunteering in service to a cause greater than themselves. They braved insurgency and sectarian strife, knowing too well the danger of combat and the cost of conflict. Yet, through the dust and din and the fog of war, they never lost their resolve. Demonstrating unshakable fortitude and unwavering commitment to duty, our men and women in uniform served tour after tour, fighting block by block to help the Iraqi people seize the chance for a better future. And on December 18, 2011, their mission came to an end.

Today, we honor their success, their service, and their sacrifice. In one of our Nation’s longest wars, veterans of Operation Iraqi Freedom and Operation New Dawn wrote one of the most extraordinary chapters in American military history. When highways became mine fields and uncertainty waited behind every corner, service members rose to meet the task at hand with unmatched courage and determination. They learned languages and cultures, taking on new roles as diplomats and development experts to improve the communities where they served. Their strength toppled a tyrant, and their valor helped build opportunity in oppression’s place. Across nearly 9 years of conflict, the glory of their service—as well as the contributions of other members of the U.S. Government and our coalition partners—always shone through.

The war left wounds not always seen, but forever felt. The burden of distance and the pain of loss weighed heavily on the hearts of millions at home and overseas. Behind every member of our military stood a parent, a spouse, or a son or daughter who proudly served their community and prayed for their loved one’s safe return. For wounded warriors, coming home marked the end of one battle and the beginning of another—to stand, to walk, to recover, and to serve again. And, in war’s most profound cost, there were those who never came home. Separated by time and space but united by their love of country, nearly 4,500 men and women are eternally bound; though we have laid them to rest, they will live on in the soul of our Nation now and forever. To them, to their families, and to all who served, we owe a debt that can never be fully repaid.

When we returned the colors of United States Forces-Iraq and the last of our troops set foot on American soil, we reflected on the extraordinary service and sacrifice of those who answered our country’s call. Their example embodied that fundamental American faith that tells us no mission is too hard, no challenge is too great, and that through tests and through trials, we will always emerge stronger than before. Now, our Nation reaffirms our commitment to serve veterans of Iraq as well as they served us—to uphold the sacred trust we share with all who have worn the uniform. Our future is brighter for their service, and today, we express our gratitude by saying once more: Welcome home.

NOW, THEREFORE, I, BARACK OBAMA, President of the United States of America, by virtue of the authority vested in me by the Constitution and the laws of the United States, do hereby proclaim March 19, 2012, as a National Day of Honor. I call upon all Americans to observe this day with appropriate programs, ceremonies, and activities that commemorate the return of the United States Armed Forces from Iraq.

IN WITNESS WHEREOF, I have hereunto set my hand this nineteenth day of March, in the year of our Lord two thousand twelve, and of the Independence of the United States of America the two hundred and thirty-sixth.

[FR Doc. 2012-7161

Filed 3-21-12; 11:15 am]

Billing code 3295-F2-P